SECURITIES AND EXCHANGE COMMISSION

Sunshine Act Meetings

Notice is hereby given, pursuant to the provisions of the Government in the Sunshine Act, Pub. L. 94-409, that the Securities and Exchange Commission will hold the following meetings during the week of February 5, 2007:

An Open Meeting will be held on Wednesday, February 7, 2007 at 10 a.m. in the Auditorium, Room LL-002, and Closed Meetings will be held on Wednesday, February 7, 2007 at 11 a.m. and Thursday, February 8, 2007 at 2 p.m.

Commissioners, Counsels to the Commissioners, the Secretary to the Commission, and recording secretaries will attend the Closed Meetings. Certain staff members who have an interest in the matters may also be present.

The General Counsel of the Commission, or his designee, has certified that, in his opinion, one or more of the exemptions set forth in 5 U.S.C. 552b(c)(3), (4), (5), (7), (8), 9(B) and (10) and 17 CFR 200.402(a)(3), (4), (5), (7), (8), 9(ii) and (10) permit consideration of the scheduled matters at the Closed Meetings.

Commissioner Nazareth as duty officer, voted to consider the items listed for the closed meetings in closed session.

The subject matter of the Open Meeting scheduled for Wednesday, February 7, 2007 at 10 a.m. will be:

The Commission will hear oral argument on an appeal by John A. Carley, Eugene C. Geiger, Thomas A. Kaufmann, Edward H. Price, and Christopher H. Zacharias from an initial decision of an administrative law judge.

Carley and Zacharias were officers and directors of Starnet Communications International, Inc. Geiger and Kaufmann were associated persons of Spencer Edwards, Inc., a registered broker-dealer. Price was president, chief executive officer, and chief compliance officer of Spencer Edwards and supervised Geiger and Kaufmann.

The law judge found that Carley and Zacharias violated, and Geiger and Kaufmann willfully violated, Sections 5(a) and 5(c) of the Securities Act of 1933 by offering to sell, selling, and delivering to members of the public shares of Starnet common stock when no registration statement was filed or in effect with respect to those securities and no exemption from registration was available. The law judge found that Price failed reasonably to supervise Geiger and Kaufmann. The law judge found further that Carley and Zacharias violated the antifraud provisions of the securities laws by filing with the Commission false and misleading current and annual reports. The law judge also found that Zacharias violated Section 16(a) of the Securities Exchange Act of 1934 and Exchange Act Rule 16a-3 by failing to file a required Form 4.

The law judge imposed cease-and-desist orders on Carley, Zacharias, Geiger, and Kaufmann, barred Geiger and Kaufmann from associating with any broker or dealer, and barred Price from associating with any broker or dealer in a supervisory capacity. The law judge ordered Carley and Zacharias each to disgorge an amount representing payments made to them in connection with their unregistered sale of shares of Starnet common stock. The law judge also ordered Geiger and Kaufmann each to disgorge fifty percent of the net commissions that they earned on all Starnet trades attributable to their joint account number at Spencer Edwards from January 1999 through February 2001. The law judge imposed penalties of $400,000 against Geiger, $300,000 against Kaufmann, and $150,000 against Price.

Carley, Zacharias, Geiger, Kaufmann, and Price appeal the law judge's findings of violation and the sanctions imposed by the law judge.

Among the issues likely to be considered are:

(1) Whether respondents committed the alleged violations; and

(2) If so, whether sanctions should be imposed in the public interest.

The subject matter of the Closed Meeting scheduled for Wednesday, February 7, 2007 at 11 a.m. will be: post-argument discussion.

The subject matter of the Closed Meeting scheduled for Thursday, February 8, 2007 will be: regulatory matter regarding financial institution; formal orders of investigation; institution and settlement of injunctive actions; institution and settlement of administrative proceedings of an enforcement nature; resolution of litigation claims; an adjudicatory matter; and other matters relating to enforcement proceedings.

At times, changes in Commission priorities require alterations in the scheduling of meeting items.

For further information and to ascertain what, if any, matters have been added, deleted or postponed, please contact:

The Office of the Secretary at (202) 551-5400.

Dated: January 31, 2007.
Nancy M. Morris,
Secretary.

[FR Doc. 07-474 Filed 1-31-07; 11:02 am]

BILLING CODE 8010-01-P